DEPARTMENT OF HEALTH AND HUMAN SERVICES

National Institutes of Health

Request for Information (RFI): Inviting Comments and Suggestions on an ODS Strategic Plan 2025-2029: A Blueprint for a Coordinated Dietary Supplement Research Agenda at NIH

AGENCY: National Institutes of Health, HHS.

ACTION: Request for information.

SUMMARY: The National Institutes of Health (NIH), Office of Dietary Supplements (ODS) is continuing to use a structured planning process to develop its five-year strategic plans. After a new director joined ODS in July 2023 a new strategic plan for 2025-2029 was developed titled “A Blueprint for a Coordinated Dietary Supplement Research Agenda at NIH.” ODS is committed to engaging its partners and other interested parties including representatives of the scientific community, industry, other federal agencies, policymakers, and the public in the strategic planning process by soliciting their comments on the draft ODS Strategic Plan for Fiscal Years (CY) 2025-2029.

DATES: The RFI is open for public comment for a period of 60 days. To ensure consideration, comments must be submitted by August 30, 2024.

ADDRESSES: All comments must be submitted electronically to ODSplan@od.nih.gov. You will receive an electronic confirmation acknowledging receipt of your response.

FOR FURTHER INFORMATION CONTACT: Barbara Cohen, Ph.D., at ODSplan@od.nih.gov or (301) 435-2920.

SUPPLEMENTARY INFORMATION: This notice is in accordance with the 21st Century Cures Act, wherein NIH institutes are required to regularly update their strategic plans. The purpose of the CY 2025-2029 ODS Strategic Plan (https://ods.od.nih.gov/About/StrategicPlan.aspx) is to communicate how ODS will advance its mission to coordinate cutting-edge dietary supplement research across NIH Institutes, Centers, and Offices (ICOs) and other federal agencies to foster knowledge and optimize health across the lifespan. The plan articulates ODS' priorities as follows:

• To coordinate and support dietary supplement research focused on biological, population, and product sciences.

• To develop NIH dietary supplement initiatives that incorporate rigorous dietary supplement research methods and make best use of available NIH funding mechanisms.

• To support ODS programs and develop and disseminate dietary supplement research findings and research resources to ODS audiences.

ODS has completed a draft of its Five-Year Strategic Plan for CY 2025-2029 (https://ods.od.nih.gov/About/StrategicPlan.aspx) and is interested in receiving feedback from all interested parties on the following:

• Any additional emerging public health issues or knowledge gaps that ODS can help address.

• Partnerships NIH should pursue, both inside and outside of government, to advance research on dietary supplements.

ODS encourages organizations to submit a single response reflective of the views of the organization as a whole.

Responses to this RFI are voluntary and may be submitted anonymously. Please do not include any personally identifiable information or any information that you do not wish to make public. Proprietary, classified, confidential, or sensitive information should not be included in your response. NIH will use the information submitted in response to this Request for Information (RFI) at its discretion. NIH reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for the use of that information.

No basis for claims against the U.S. Government shall arise as a result of a response to this RFI or from the Government's use of such information. Additionally, the Government cannot guarantee the confidentiality of the information provided.

Dated: June 20, 2024.
Lawrence A. Tabak,
Principal Deputy Director, National Institutes of Health.

[FR Doc. 2024-14481 Filed 6-28-24; 8:45 am]

BILLING CODE 4140-01-P